DEPARTMENT OF JUSTICE

[OMB Number 1125-0018]

Agency Information Collection Activities; Proposed eCollection eComments Requested; FOIAXpress/FOIA Public Access Link

AGENCY: Executive Office for Immigration Review, Department of Justice.

ACTION: 30-day notice.

SUMMARY: The Executive Office for Immigration Review (EOIR), Department of Justice (DOJ), will be submitting the following information collection request to the Office of Management and Budget (OMB) for review and approval in accordance with the Paperwork Reduction Act of 1995. The proposed information collection was previously published in the Federal Register on February 9, 2024, allowing a 60-day comment period.

DATES: Comments are encouraged and will be accepted for 30 days until May 29, 2024.

FOR FURTHER INFORMATION CONTACT: If you have comments especially on the estimated public burden or associated response time, suggestions, or need a copy of the proposed information collection instrument with instructions or additional information, please contact: Raechel Horowitz, Chief, Immigration Law Division, Office of Policy, Executive Office for Immigration Review, 5107 Leesburg Pike, Suite 2500, Falls Church, VA 22041, telephone: (703) 305-0473, Raechel.Horowitz@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1125-0018. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and Extension of a previously approved collection.

2. Title of the Form/Collection: FOIAXpress/FOIA Public Access Link.

3. Agency form number, if any, and the applicable component of the Department of Justice sponsoring the collection: EOIR does not maintain an agency-specific form number for this collection.

4. Affected public who will be asked or required to respond, as well as a brief abstract: Affected Public: Individuals and households.

Abstract: This information collection is optional and voluntary. FOIAXpress is a software program that provides the EOIR Freedom of Information Act (FOIA) Program with a single, unified application for managing the entire lifecycle of FOIA requests and appeals. The Public Access Link (PAL) is a secure web-based application that provides an online platform for the public to file a FOIA request with EOIR. The PAL is integrated directly with FOIAXpress and offers a centralized location for EOIR to receive online FOIA requests, deliver responsive records, communicate with requesters, collect fees, if applicable, and provide access to released documents in a public reading room in accordance with agency proactive disclosure guidelines.

EOIR has developed several changes to the PAL platform to improve the Agency's FOIA request and response process and to reduce the burden on members of the public that submit FOIA requests to EOIR. These developments include the following substantive changes: modifying the request form to display only those data fields relevant to the type of FOIA request selected by the requestor; changing the date range field from voluntary to mandatory; prompting an individual that requests a Record of Proceeding (ROP) to provide on a voluntary basis the charging document date and a record subject's alias, parents' names, port and date of entry, and place and date of proceeding; and removing data fields that EOIR determined were no longer necessary for the Agency to fulfill a FOIA request. In addition, EOIR has identified the following non-substantive changes: modifying the appearance and formatting of the PAL request form; updating links to web pages and resources embedded throughout the form; revising existing form instructions for clarity; and reorganizing some data fields under different sections of the PAL form. EOIR intends these developments to reduce the public's burden in completing the PAL form and to improve the Agency's FOIA request and response process, and the public's experience with that process. These enhancements include: assisting requestors in making the most appropriate selection for the type of FOIA request; enhancing the logical direction with which a requestor completes the form; and tailoring the information solicited from the requestor to generate more precise requests, thereby reducing processing time.

5. Obligation to Respond: Voluntary.

6. Total Estimated Number of Respondents: 24,804.

7. Estimated Time per Respondent: 3 minutes.

8. Frequency: Once annually.

9. Total Estimated Annual Time Burden: 1,240 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: April 24, 2024.
Darwin Arceo,
Department Clearance Officer for PRA, U.S. Department of Justice.

[FR Doc. 2024-09127 Filed 4-26-24; 8:45 am]

BILLING CODE 4410-30-P